DEPARTMENT OF THE INTERIOR

Bureau of Land Management

[LLNVL01000. L51100000.GN0000. LVEMF1302520; N91957; MO# 4500053094; TAS: 13X5017]

Second Notice of Intent to Prepare an Environmental Impact Statement for the Proposed Gold Rock Mine Project, White Pine County, NV

AGENCY: Bureau of Land Management, Interior.

ACTION: Notice of Intent.

SUMMARY: The BLM's email account that was set up to receive scoping comments on the Gold Rock Mine Project Environmental Impact Statement (EIS) during the initial scoping period (September 5, 2013, through October 7, 2013) was deleted during the recent Federal Government shutdown. Therefore, this second notice for the Gold Rock Mine Project EIS is being issued to extend the scoping period, invite members of the public to submit comments, and request that anyone who submitted comments by email during the initial 30-day scoping period resubmit their comments.

In compliance with the National Environmental Policy Act of 1969, as amended, (NEPA) and the Federal Land Policy and Management Act (FLPMA) of 1976, as amended, the Bureau of Land Management (BLM) Egan Field Office, Ely, Nevada, intends to prepare an Environmental Impact Statement (EIS) and by this notice is announcing a 30-day extension of the public input period to solicit public comments and identify issues. The proposed project is located in White Pine County, about 50 miles west of Ely, in the Upper Railroad Valley.

DATES: This notice extends the public input period for the EIS. Comments may be submitted until April 28, 2014. In order to be included in the Draft EIS, all comments must be received prior to the close of this public comment period. No scoping meetings will be held during this 30-day extension of the public input period. We will provide additional opportunities for public participation upon publication of the Draft EIS.

ADDRESSES: You may submit comments related to the Gold Rock Mine Project by any of the following methods:

• The BLM's ePlanning Web site: https://www.blm.gov/epl-front-office/eplanning/nepa/nepa_register.do.

• Fax: 775-289-1910.

• Mail: BLM Ely District, Egan Field Office, HC 33 Box 33500, Ely, NV 89301-9408.

Documents pertinent to this proposal may be examined at the Egan Field Office, 702 N. Industrial Way, Ely, Nevada.

FOR FURTHER INFORMATION CONTACT: Dan Netcher, Project Manager, telephone: 775-289-1872; email: dnetcher@blm.gov. Contact Mr. Netcher if you wish to have your name added to our mailing list. Persons who use a telecommunications device for the deaf (TDD) may call the Federal Information Relay Service (FIRS) at 1-800-877-8339 to contact Mr. Netcher. The FIRS is available 24 hours a day, 7 days a week, to leave a message or question. You will receive a reply during normal business hours.

SUPPLEMENTARY INFORMATION: The initial scoping period for the Gold Rock Mine Project EIS was announced in the Federal Register on September 5, 2013 (78 FR 54674). Scoping meetings were announced at least 15 days in advance through local media, newspapers, the BLM Web site at http://www.blm.gov/nv/st/en/fo/ely_field_office.html, and the BLM's online ePlanning system, and were held on September 24, 25, and 26 in 2013, in Ely, Eureka, and Reno, Nevada, respectively.

On November 7, 2013, the BLM was informed that the email account set up to receive scoping comments on the Gold Rock Mine Project EIS, along with all of its contents, had been deleted and was not recoverable. On January 6, 2014, the BLM and the project proponent, Midway Gold US Inc. (Midway), decided to issue a second Notice of Intent (NOI) to extend the scoping period, invite the public to submit comments, and request that anyone who submitted scoping comments by email during the initial 30-day scoping period (September 5, 2013, through October 7, 2013) resubmit their comments by mail, by fax, or through the ePlanning system during this 30-day extension of the public input period.

No changes have been made to the proposed action. No scoping meetings will be held during this 30-day extension of the public input period, as these meetings were not affected by the technical difficulties with the email account.

Midway proposes to construct and operate an open-pit gold mining operation, which would include an open pit; a heap leach pad and associated ponds, process facility, and refinery; a mill; a carbon-in-leach (CIL) plant; waste rock dumps; a tailings storage facility; and ancillary facilities. The mine would be located on the eastern side of the Pancake Mountain Range, about 30 miles southeast of Eureka, 50 miles west of Ely and 15 miles south of U.S. Route 50. Electrical power would be obtained from Mt. Wheeler Power. For the Gold Rock Project, a 69-kV transmission line would be extended from the Pan Mine approximately 6 miles across the valley to tie into the west side of the Gold Rock Project electric system. A county road that currently passes through the project area would be relocated onto existing county and BLM roads. Currently, Midway is authorized to disturb up to 267 acres for exploration purposes. The proposed operations and associated disturbance would increase disturbance to 3,749 acres of public land managed by the BLM. The projected mining period is 10 years. Associated construction, closure, reclamation, and post-closure monitoring periods would extend the Project life for an estimated 38 years, to approximately 48 years. Midway is currently conducting exploration activities in this area which were analyzed in two environmental assessments (EAs): the Midway Gold Rock Project Final Environmental Assessment (June 2012), and the Environmental Assessment for the Midway Gold Rock Project, Exploration Amendment (October 2012).

A range of alternatives will be developed, including the no-action alternative, to address the issues identified during scoping. Mitigation measures will be considered to minimize environmental impacts and to assure the proposed action does not result in unnecessary or undue degradation of public lands.

The purpose of the public scoping process is to determine relevant issues that will influence the scope of the environmental analysis, including alternatives, and guide the process for developing the EIS. At present, the BLM has identified the following preliminary issues:

(a) Potential effects to wild horses, which would include loss of habitat from surface disturbance and which could include mortality from collision with project-related vehicles on existing roads;

(b) Potential effects to greater sage-grouse, which would include loss of habitat from surface disturbance and which could include impacts to the species created by construction and operation in proximity to active sage-grouse leks;

(c) Potential effects to mule deer, which would include loss of habitat from surface disturbance habitat and which could include mortality from collision with project-related vehicles on existing access roads;

(d) Potential effects to employment and housing availability;

(e) Potential effects to archaeological resources in the area, which could include Carbonari (historical charcoal production) sites and the Lincoln Highway route;

(f) Potential effects to air quality created by the initiation of mining at the Gold Rock Mine Project;

(g) Potential effects to viewshed in and around areas of Visual Resources Management Classes III and IV from project construction and operation, including effects to night sky from nighttime operations; and

(h) Potential effects to recreational uses and users, which would include loss of access and loss of hunting areas.

The BLM will use the NEPA commenting process to help fulfill the public involvement requirements of Section 106 of the National Historic Preservation Act (16 U.S.C. 470f) as provided for in 36 CFR 800.2(d)(3). Native American tribal consultations will be conducted in accordance with policy, and tribal concerns, including impacts on Indian trust assets, will be given due consideration. The BLM is in the process of determining the cooperating agencies. Federal, State, and local agencies, along with other stakeholders that may be interested or affected by the BLM's decision on this project are invited to participate in the scoping process and, if eligible, may request or be requested by the BLM to participate as a cooperating agency.

Before including your address, phone number, email address, or other personal identifying information in your comment, you should be aware that your entire comment—including your personal identifying information—may be made publicly available at any time. While you can ask us in your comment to withhold your personal identifying information from public review, we cannot guarantee that we will be able to do so.

Jill A. Moore,
Field Manager, Egan Field Office.

Authority: 40 CFR 1501 and 43 CFR 3809.

[FR Doc. 2014-07005 Filed 3-27-14; 8:45 am]

BILLING CODE 4310-HC-P